DEPARTMENT OF AGRICULTURE

Agricultural Marketing Service

[Docket Number FV-03-302]

Request for an Extension of and Revision to a Currently Approved Information Collection

AGENCY: Agricultural Marketing Service, USDA.

ACTION: Notice and request for comments.

SUMMARY: In accordance with the Paperwork Reduction Act of 1995 (44 U.S.C. Chapter 35), this notice announces the Agricultural Marketing Service's (AMS) intention to request approval from the Office of Management and Budget, for an extension of and revision to the currently approved information collection for “Regulations Governing Inspection, Certification and Standards for Fresh Fruits and Vegetables, and Other Products.”

DATES: Comments on this notice must be received on or before September 22, 2003, to be assured of consideration.

FOR FURTHER INFORMATION CONTACT: Contact Kathleen A. Staley, Head, Field Operations Section, Fresh Products Branch, Fruit and Vegetable Programs, Agricultural Marketing Service, U.S. Department of Agriculture, 1400 Independence Avenue, SW., Room 2058—South Building, Stop 0240, Washington, DC 20250-0240, Phone (202) 720-2482, Fax (202) 720-0393; E-mail kathleen.staley@usda.gov.

SUPPLEMENTARY INFORMATION:

Title: Regulations Governing Inspection, Certification and Standards For Fresh Fruits, Vegetables, and Other Products: 7 CFR Part 51.

OMB Number: 0581-0125.

Expiration Date of Approval: February 29, 2004.

Type of Request: Extension and revision of a currently approved information collection.

Abstract: The Fresh Products Branch provides a nationwide inspection and grading service for fresh fruits, vegetables, and other products to shippers, importers, processors, sellers, buyers, and other financially interested parties on a “user fee” basis. The use of this service is voluntary and is made available only upon request or when specified by some special program or contract. Information is needed to carry out the inspection and grading services. Such information includes: The name and location of the person or company requesting the inspection, the type and location of the product to be inspected, the type of inspection being requested and any information that will identify the product.

Estimate of Burden: Public reporting burden for this collection of information is estimated to average .03 hours per response.

Respondents: Shippers, importers, processors, sellers, buyers, and others with a financial interest in lots of fresh fruits, vegetables, and other products.

Estimated Number of Respondents: 56,980.

Estimated Number of Responses per Respondent: 5.

Estimated Total Annual Burden on Respondents: 8,942.

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology. Comments may be sent to Kathleen A. Staley, Head, Field Operations Section, Fruit and Vegetable Programs, Agricultural Marketing Service, U.S. Department of Agriculture, 1400 Independence Avenue, SW., Stop 0240, Room 2058—South Building, Washington, DC 20250-0240; Fax (202) 720-0393. All comments received will be available for public inspection during regular business hours at the same address.

All responses to this notice will be summarized and included in the request for OMB approval. All comments will become a matter of public record.

Dated: July 17, 2003.
A.J. Yates,
Administrator, Agricultural Marketing Service.

[FR Doc. 03-18777 Filed 7-23-03; 8:45 am]

BILLING CODE 3410-02-P